DEPARTMENT OF COMMERCE

International Trade Administration

[A-570-848]

Freshwater Crawfish Tail Meat From the People's Republic of China: Initiation of Antidumping Duty New Shipper Review

AGENCY: Import Administration, International Trade Administration, Department of Commerce.

SUMMARY: The Department of Commerce (“Department”) has received a timely request to conduct a new shipper review of the antidumping duty order on freshwater crawfish tail meat from the People's Republic of China (“PRC”). In accordance with 19 CFR 351.214(d)(1), we are initiating a review for Shanghai Strong International Trading Co., Ltd. (Shanghai Strong).

EFFECTIVE DATE: May 31, 2006.

FOR FURTHER INFORMATION CONTACT: Erin C. Begnal or Scot T. Fullerton, AD/CVD Operations, Office 9, Import Administration, International Trade Administration, U.S. Department of Commerce, 14th Street and Constitution Avenue, NW., Washington, DC 20230; telephone: (202) 482-1442 or (202) 482-1386, respectively.

SUPPLEMENTARY INFORMATION:

Background

The Department received a timely request from Shanghai Strong on March 24, 2006, pursuant to section 751(a)(2)(B) of the Tariff Act of 1930, as amended (“the Act”), and in accordance with 19 CFR 351.214(c), for a new shipper review of the antidumping duty order on freshwater crawfish tail meat from the PRC. See Notice of Amendment to Final Determination of Sales at Less than Fair Value and Antidumping Duty Order: Freshwater Crawfish Tail Meat from the People's Republic of China, 62 FR 48218 (September 15, 1997).

Pursuant to 19 CFR 351.214(b)(2)(i), 19 CFR 351.214(b)(2)(ii)(A), and 19 CFR 351.214(b)(2)(iii)(A), in its request for review, Shanghai Strong certified that it did not export the subject merchandise to the United States during the period of investigation (POI) and that since the initiation of the investigation it has never been affiliated with any company which exported subject merchandise to the United States during the POI. Furthermore, pursuant to 19 CFR 351.214(b)(2)(ii)(B) and 19 CFR 351.214(b)(2)(iii)(A), Jiangsu Hongda Aquatic Food Co., Ltd. (Jiangsu Hongda), Shanghai Strong's producer, certified that it did not export the subject merchandise to the United States during the POI and that since the initiation of the investigation it has never been affiliated with any company which exported subject merchandise to the United States during the POI.

In accordance with 19 CFR 351.214(b)(2)(iv), Shanghai Strong submitted documentation establishing the following: (1) the date on which it first shipped subject merchandise for export to the United States and the date on which the subject merchandise was first entered, or withdrawn from warehouse, for consumption; (2) the volume of its first shipment; and (3) the date of its first sale to an unaffiliated customer in the United States.

On March 29, 2006, we requested from U.S. Customs and Border Protection (CBP) the entry package for Shanghai Strong, and on April 21, 2006, we received from CBP the entry documentation. However, we found certain discrepancies between the documentation provided by Shanghai Strong in its request for a new shipper review and the entry package we received from CBP.¹ On May 1, 2006, pursuant to 19 CFR 351.302(b), the Department extended the time limit to initiate this new shipper review by 30 days in order to provide Shanghai Strong an opportunity to explain or resolve the inconsistencies in the entry documentation.² On May 3, 2006, we received a revised Entry Summary (CF7501) from Shanghai Strong for this shipment, and on May 5, 2006, we spoke with Ms. Yingchao Xiao, of Lee & Xiao, counsel to Shanghai Strong, who informed us that Shanghai Strong's importer's customs broker had made a mistake while filing the entry documentation for this shipment, prompting a revision.³ On May 9, 2006, we requested from CBP the revised entry package for Shanghai Strong, and received the entry package from CBP on May 12, 2006.⁴ We found that the discrepancy between the information provided by Shanghai Strong in its request for a new shipper review and the original entry package provided by CBP was resolved with the revised information provided by both Shanghai Strong on May 3, 2006, and by CBP on May 12, 2006.

¹ See Memorandum to the File, from Michael Quigley, Case Analyst, through Christopher D. Riker, Program Manager, Re: Freshwater Crawfish Tail Meat from the People's Republic of China: Entry Packages from U.S. Customs and Border Protection for Shanghai Strong International Co., Ltd. (May 1, 2006).

² See Letter from Christopher D. Riker, Program Manager, to Yingchao Xiao of Lee & Xiao, counsel to Shanghai Strong, Re: Extension of Initiation Date of New Shipper Review of Freshwater Crawfish Tail Meat from the People's Republic of China (May 1, 2006).

³ See Memorandum to the File from Christopher D. Riker, Program Manager, Subject: Telephone Conversation with Counsel for Shanghai Strong International Trading Co., Ltd. (May 12, 2006).

⁴ See Memorandum to the File from Erin Begnal, Case Analyst, through Christopher D. Riker, Program Manager, Re: Freshwater Crawfish Tail Meat from the People's Republic of China: Entry Packages from U.S. Customs and Border Protection (“CBP”) (May 12, 2006).

Initiation of Reviews

In accordance with section 751(a)(2)(B) of the Act, and 19 CFR 351.214(d)(1), and based on information on the record, we are initiating a new shipper review for Shanghai Strong. See Memorandum to the File through James C. Doyle, New Shipper Initiation Checklist, dated May 23, 2006. The Department will conduct this new shipper review according to the deadlines set forth in section 751(a)(2)(B)(iv) of the Act.

Pursuant to 19 CFR 351.214(g)(1)(i)(B), the period of review (“POR”) for a new shipper review, normally initiated in the month immediately following the semiannual anniversary month, will be the six-month period immediately preceding the semiannual anniversary month. Therefore, the POR for the new shipper review of Shanghai Strong will be September 1, 2005, through February 28, 2006.

In cases involving non-market economies, the Department requires that a company seeking to establish eligibility for an antidumping duty rate separate from the country-wide rate demonstrate that it operates free of de jure and de facto government control over the company's export activities. See Final Determination of Sales at Less Than Fair Value: Sparklers from the People's Republic of China, 56 FR 20588 (May 6, 1991); Final Determination of Sales at Less Than Fair Value: Silicon Carbide from the People's Republic of China, 59 FR 22585 (May 2, 1994); see also Sigma Corp. v. United States, 117 F. 3d 1401,1405 (Fed. Cir. 1997). Accordingly, we will issue a questionnaire to Shanghai Strong, including a separate rates section. The review will proceed if the response provides sufficient indication that Shanghai Strong is not subject to either de jure or de facto government control with respect to its exports of freshwater crawfish tail meat. However, if the exporter does not demonstrate the company's eligibility for a separate rate, then the company will be deemed not separate from the PRC-wide entity, which exported during the POI. An exporter unable to demonstrate the company's eligibility for a separate rate does not meet the requirements of CFR 351.214(b)(2)(iii) and its new shipper review will be rescinded. See, e.g., Notice of Preliminary Results of Antidumping Duty New Shipper Review and Rescission of New Shipper Reviews: Freshwater Crawfish Tail Meat from the People's Republic of China, 69 FR 53669 (September 2, 2004); see also Brake Rotors From the People's Republic of China: Rescission of Second New Shipper Review and Final Results and Partial Rescission of First Antidumping Duty Administrative Review, 64 FR 61581 (November 12, 1999).

In accordance with section 751(a)(2)(B)(iii) of the Act and 19 CFR 351.214(e), we will instruct CBP to allow, at the option of the importer, the posting, until the completion of the review, of a single entry bond or security in lieu of a cash deposit for certain entries of the merchandise exported by Shanghai Strong. We will apply the bonding option under 19 CFR 351.107(b)(1)(i) only to entries from the producer/exporter combination for which Shanghai Strong has requested a new shipper review, i.e., Jiangsu Hongda/Shanghai Strong.

Interested parties that need access to proprietary information in this new shipper review should submit applications for disclosure under administrative protective orders in accordance with 19 CFR 351.305 and 351.306.

This initiation and notice are issued and published in accordance with section 751(a) of the Act and sections 351.214(d) and 351.221(b)(1) of the Department's regulations.

Dated: May 23, 2006.
Stephen J. Claeys,
Deputy Assistant Secretary for Import Administration.

[FR Doc. E6-8390 Filed 5-30-06; 8:45 am]

BILLING CODE 3510-DS-S